DEPARTMENT OF AGRICULTURE

Rural Business-Cooperative Service

[Docket #: RBS-24-BUSINESS-0006]

Notice of Revision of a Currently Approved Information Collection

AGENCY: Rural Business-Cooperative Service or Rural Utilities Service, USDA.

ACTION: Notice; request for comments.

SUMMARY: In accordance with the Paperwork Reduction Act of 1995 the Rural Business-Cooperative Service (RBCS or Agency), an agency within the United States Department of Agriculture (USDA), Rural Development (RD), announces its intention to request an extension to a currently approved information collection package for Higher Blends Infrastructure Incentive Program (HBIIP) program. The Agency invites comments on this information collection for which it intends to request approval from the Office of Management and Budget (OMB).

DATES: Comments on this notice must be received by August 19, 2024 to be assured of consideration.

FOR FURTHER INFORMATION CONTACT: Susan Woolard, RD Innovation Center—Regulations Management Division, U.S. Department of Agriculture, 1400 Independence Avenue SW, Washington, DC 20250, Telephone: 202-720-9631, email: susan.woolard@usda.gov.

SUPPLEMENTARY INFORMATION: The OMB regulation (5 CFR part 1320) implementing provisions of the Paperwork Reduction Act of 1995 (Pub. L. 104-13) requires that interested members of the public and affected agencies have an opportunity to comment on information collection and recordkeeping activities (see 5 CFR 1320.8(d)). This notice identifies an information collection that the Agency is submitting to OMB for extension.

Comments are invited on (a) Whether the proposed collection of information is necessary for the proper performance of the functions of the Agency, including whether the information will have practical utility;

(b) the accuracy of the Agency's estimate of the burden of the proposed collection of information including the validity of the methodology and assumptions used; (c) ways to enhance the quality, utility and clarity of the information to be collected; and (d) ways to minimize the burden of the collection of information on those who are to respond, including through the use of appropriate automated, electronic, mechanical, or other technological collection techniques or other forms of information technology.

Comments may be submitted electronically by the Federal eRulemaking Portal, https://www.regulations.gov/. In the “Search for dockets and documents on agency actions” box enter RBS-24-Business-0006 and click the “Search” button. From the search results, click on or locate the document title: “HBIIP Notice of Revision of a Currently Approved Information Collection” and select the “Comment” button. Before inputting comments, commenters may review the “Commenter's Checklist” (optional). To submit a comment: Insert comments under the “Comment” title, click “Browse” to attach files (if available), input email address, select box to opt to receive email confirmation of submission and tracking (optional), select the box “I'm not a robot,” and then select “Submit Comment.” Information on using Regulations.gov, including instructions for accessing documents, submitting comments, and viewing the docket after the close of the comment period, is available through the site's “FAQ” link. All comments will be available for public inspection online at the Federal eRulemaking Portal (https://www.regulations.gov).

A federal agency may not conduct or sponsor, and a person is not required to respond to, nor shall a person be subject to a penalty for failure to comply with a collection of information subject to the requirements of the Paperwork Reduction Act unless that collection of information displays a currently valid OMB Control Number. Data furnished by the applicants will be used to determine eligibility for program benefits. Furnishing the data is voluntary; however, failure to provide data could result in program benefits being withheld or denied.

Title: Higher Blends Infrastructure Incentive Program (HBIIP).

OMB Control Number: 0570-0072.

Type of Request: Extension of a currently approved information collection.

Abstract: HBIIP is intended to encourage a more comprehensive approach to marketing higher blends biofuels by sharing the costs related to building out biofuel-related infrastructure. To be eligible for this program, a project's sole purpose must be to assist transportation fueling and biodiesel distribution facilities with converting to higher ethanol and biodiesel blend friendly status by sharing the costs related to the installation, and/or retrofitting, and/or otherwise upgrading of fuel storage, dispenser/pumps, related equipment, and infrastructure. An eligible project must conform to all applicable Federal, State, and local regulatory requirements.

Estimate of Burden: Public reporting burden for this collection of information is estimated to average 8.03 hours per response.

Respondents: Owners of transportation fueling, and fuel distribution facilities located in the United States.

Estimated Number of Respondents: 641.

Estimated Number of Responses per Respondent: 1.06.

Estimated Number of Responses: 10,477.

Estimated Total Annual Burden on Respondents: 84,177 hours.

Copies of this information collection can be obtained from Susan Woolard, RD Innovation Center—Regulations Management Division, Telephone: 202-720-9631, email: susan.woolard@usda.gov.

All responses to this notice will be summarized and included in the request for OMB approval. All comments will also become a matter of public record.

Kathryn E. Dirksen Londrigan,
Administrator, Rural Business-Cooperative Service, USDA Rural Development.

[FR Doc. 2024-13326 Filed 6-17-24; 8:45 am]

BILLING CODE 3410-XT-P